DEPARTMENT OF STATE

[Public Notice 7735]

Suggestions for Environmental Cooperation Pursuant to the United States-Jordan Joint Statement on Environmental Technical Cooperation

ACTION: Notice of preparation of the 2012-2013 U.S.-Jordan Environmental Cooperation Work Program and request for comments.

SUMMARY: The Department invites the public, including NGOs, educational institutions, private sector enterprises and other interested persons, to submit written comments or suggestions regarding items for inclusion in a new work program for implementing the U.S.-Jordan Joint Statement on Environmental Technical Cooperation, which was signed on October 24, 2000. We encourage submitters to refer to: (1) The U.S.-Jordan Joint Statement on Environmental Technical Cooperation; (2) the U.S.-Jordan 2008-2011 Work Program on Environmental Cooperation; (3) Article 5 (Environment) of the Agreement Between the United States of America and the Hashemite Kingdom of Jordan on the Establishment of a Free Trade Area (U.S.-Jordan Free Trade Agreement (FTA); and (4) the environmental review of the U.S.-Jordan FTA. These documents are available at http://www.state.gov/e/oes/env/trade/jordan/index.htm.

DATES: To be assured of timely consideration, all written comments or suggestions are requested no later than February 29, 2012.

ADDRESSES: Written comments or suggestions should be emailed (pratherta@state.gov) or faxed ((202) 647-5947) to Tiffany Prather, Office of Environmental Policy, Bureau of Oceans and International Environmental and Scientific Affairs, U.S. Department of State, with the subject line “U.S.-Jordan Environmental Cooperation Work Program.” If you have access to the Internet, you may make comments electronically by going to http://contact-us.state.gov/app/ask and searching on public notice number 7735.

FOR FURTHER INFORMATION CONTACT: Tiffany Prather, telephone (202) 647-4548.

SUPPLEMENTARY INFORMATION: The United States and Jordan announced the establishment of the U.S.-Jordan Joint Forum on Environmental Technical Cooperation (Joint Forum) when they signed the U.S.-Jordan Joint Statement on Environmental Technical Cooperation (Joint Statement), on October 24, 2000, along with the U.S.-Jordan FTA. The Joint Forum is to meet regularly and advance environmental protection in Jordan by developing environmental technical cooperation initiatives, which take into account environmental priorities, and which are agreed to by the two governments. In paragraph 4 of the Joint Statement, the countries identify an initial focus of technical cooperation on Jordanian environmental quality issues and the development and effective implementation of Jordanian environmental laws, as defined in Articles 5.4 and 18.2(a) of the U.S.-Jordan FTA.

The Joint Forum has met twice since 2000—in September 2004 and March 2009—and issued two plans for implementing the Joint Statement. The first—a Plan of Action—focused on implementing a strategic vision for Jordan's Ministry of Environment, established in 2002, to promote sustainable economic growth and development. The plan outlined activities to, among other things, strengthen the Ministry's capacity for setting, implementing, and ensuring compliance with environmental standards; harness market forces to protect the environment while bringing economic benefits; undertake industrial wastewater treatment and hazardous waste management for a target region; seek out economic benefits of ecotourism; and promote the development of a regional network of environmental lawmakers and enforcement officials.

The second, a Work Program for 2008-2011, identifies long-term goals and specifies activities in four priority areas. The long-term goals are to achieve: (1) Compliance with obligations in Article 5 (Environment) of the U.S.-Jordan FTA; (2) improved protection and conservation of the environment, including natural resources; (3) transparency and meaningful public participation in environmental decision-making; and (4) a culture of environmental protection and compliance with environmental laws through, among other things, the promotion of economic opportunities, voluntary measures to enhance environmental performance, and job creation. The priority areas are: (1) Institutional and policy strengthening; (2) biodiversity conservation and improved management of protected areas; (3) improved private sector environmental performance; and (4) environmental education, transparency, and public participation in environmental decision-making and enforcement.

For the 2012-2013 Work Program, we anticipate building upon the cooperative work initiated under the previous two plans. We are requesting suggestions that may be considered for inclusion in the next Work Program.

Disclaimer: This Public Notice is a request for comments and suggestions, and is not a request for applications. No granting of money is directly associated with this request for suggestions for the Work Program. There is no expectation of resources or funding associated with any comments or suggestions for the Work Program.

Dated: January 31, 2012.
George Sibley,
Director, Office of Environmental Policy, Department of State.

[FR Doc. 2012-2624 Filed 2-3-12; 8:45 am]

BILLING CODE 4710-09-P